VALLES CALDERA TRUST

Notice of Intent To Prepare an Environmental Impact Statement for a Public Use and Access Plan

AGENCY: Valles Caldera Trust.

ACTION: Notice of Intent to prepare an Environmental Impact Statement.

Authority: The National Environmental Policy Act of 1969 (NEPA), CEQ Regulations at 40 CFR parts 1500 through 1508, The Valles Caldera Preservation Act, Public Law 106-248, NEPA Procedures for the Valles Caldera National Preserve, 68 CFR 42460.

SUMMARY: The Valles Caldera Trust (the Trust) a wholly owned government corporation empowered to provide management and administrative services for the Valles Caldera National Preserve (the Preserve) intends to prepare an Environmental Impact Statement (EIS) to analyze and disclose the potential impacts of a proposed stewardship action to develop facilities, infrastructure, and programs to provide public access to, and use of, the Preserve for recreation, education, scientific, commercial and other purposes; from this point forward referred to as public access and use. The proposal will address six elements associated with public access and use:

1. Access—How do you enter the Preserve? After entering, where can you go and how do you get there?

2. Capacity—How many visitors can be accommodated on the Preserve on an annual, seasonal, or daily basis?

3. Activities—What types of activities and programs will be available?

4. Development—What types of facilities and infrastructure should be developed? At what scale should development occur and where should it be located?

5. Financing—What are the capital investment requirements for various levels of development? What are the annual operating costs? How much of the annual operating costs can be recovered through revenues generated by programs and activities?

6. Values—What do we value most about the Preserve? How may those values be affected by development?

All action alternatives will consider the location and construction of a visitor and interpretive center as the main point of access to the Preserve. The visitor and interpretive center would include connected ancillary facilities and infrastructure such as parking, interpretive trails and overlooks, and motorized access onto the Preserve. Programmatic direction to guide or prescribe the development of future programs facilities, and infrastructure facilities in support of public access and use will also be considered. The scale and location of development will vary between the alternatives.

The construction of the visitor and interpretive center including the connected ancillary facilities and infrastructure would be scheduled following an implementing decision; approximately 12-18 months following the publication of this notice. Programmatic direction would describe capacities and types of future visitor programs, and criteria for determining scale and location of future ancillary facilities. The actual construction of ancillary facilities such as campgrounds, cabins, lodging, additional parking, trails, picnic areas, restroom facilities, or other amenities developed in the Preserve's interior may require additional site-specific analysis compliant with NEPA.

DATES: This scoping process will culminate in the preparation of a draft EIS which will be made available for public comment. To ensure that the Trust has an opportunity to fully consider public comments in the development of the alternatives and determining the scope of the analysis and to facilitate the prompt preparation of the draft EIS, comments regarding the proposed stewardship action, Public Access and Use, are requested on or before October 15, 2009, 4:30 p.m. MDT.

Two public meetings are currently scheduled:

Monday, September 14, 2009, 5:30-8 p.m., Hilton Garden Inn, 5320 San Antonio Dr., NE., Albuquerque, New Mexico.

Tuesday, September 15, 2009, 5:30-8 p.m., Santa Fe Community College, 6401 S Richards Ave., Santa Fe, New Mexico.

At least one additional meeting will be scheduled at the Trust's administrative offices located at 18161 State Highway 4, Jemez Springs, New Mexico. The date for this meeting is to be determined.

To receive future notices regarding planning and decision making for public use and access, including the times and locations of public meetings, subscribe to the Trust's user maintained mailing list. To subscribe, access our Web site, http://www.vallescaldera.gov, and select the “Mailing List” tab from the upper left corner of the home page. You will be asked to select one or more topics of interest. Check “Project Planning and Decisions” to receive updates on this planning effort.

ADDRESSES: You may submit comments on public access and use planning by any of the following methods:

E-mail: comments@vallescaldera.gov; include Public Access and Use as the subject.

Agency Web site: An interactive Web site for public access and use planning is active. Simply visit our homepage at http://www.vallescaldera.gov and select the link provided or type in the complete URL: http://www.vallescaldera.gov/nepa/pages/introduction.aspx?id=096afd15-f2e5-4df0-84df-46151a07be62.

Surface Mail: The Valles Caldera Trust, Attn: Public Access and Use, P.O.B. 359, Jemez Springs, NM 87025.

Hand Delivery/Courier: Valles Caldera Trust, 18161 State Highway 4, Jemez Springs, New Mexico.

FOR FURTHER INFORMATION CONTACT: Contact Marie E. Rodriguez, Natural Resource Coordinator at mrodriguez@vallescaldera.gov, or 505/661-3333.

SUPPLEMENTARY INFORMATION: The Valles Caldera National Preserve is located in north-central New Mexico in the Jemez Mountains, primarily in Sandoval County with a small inclusion in Rio Arriba County. The Preserve was acquired by the Federal government in 2000 with the signing of the Valles Caldera Preservation Act (Pub. L. 106-248). Besides acquisition of the land, the law established the Valles Caldera Trust, a wholly owned government corporation and non-profit 501(c)1 organization to manage the Preserve. The Preserve and Trust are considered an experiment in public land management. Purposes and goals include continued operation as a working ranch consistent with the protection and preservation of resources and provision public access for recreation and other purposes. The act also establishes that the Trust should strive to become financially self-sufficient where consistent with other goals and purposes.

Since 2002, the Trust has been managing an interim program for public access and use of the Preserve. The interim program was developed in response to the Valles Caldera Preservation Act (Pub. L. 106-248), which mandated that reasonable access to the Preserve for recreation would be provided within two years of Federal acquisition. The interim program provides a variety of regularly available outdoor recreation activities such as fishing, hiking, hunting, wildlife and scenic tours, wagon rides, horseback riding, as well as winter recreation activities. The interim program has also included opportunities for the public to enjoy and learn about the Preserve through an array of special events. Special events have included night sky adventures, youth and adult outdoor education seminars, photography workshops, mountain biking and running events and more recently, overnight opportunities such as weddings and workshops, which use the existing facilities on the Preserve. Universities, K-12 schools, and various educational and research entities have also had access to the Preserve on a case by case basis.

Infrastructure development has been limited to road maintenance and upgrade activities necessary to provide safe access while protecting and preserving natural and cultural resources. Temporary facilities (portable buildings, portable toilets, etc.) have been used to facilitate public access and use of the Preserve.

Prior to Federal acquisition, about 200-300 people visited the Preserve annually. Since Federal acquisition, that number has increased to an estimated 15,000 visitors annually. Visitors enjoy their experience on the Preserve but consistently request broader, less controlled access. In addition, the Preserve's unique setting within a basically intact volcanic crater offers unique opportunities for learning and inspiration. Interest in the Preserve as a portal to learning about and being inspired by nature is growing. With increasing interest from partners, the Trust sees opportunities to develop science and education programs which have local, regional, national, and global effects.

In December 2006 the Trust initiated “Phase I” of comprehensive planning for public access and use. This phase was largely information gathering and included a series of public workshops, strategic level business planning and analysis, and assessing various sites on the Preserve to determine possible locations for a visitor and interpretive center and other ancillary facilities. Based on the information accumulated, the Trust is entering into “Phase II”, planning and decision-making for public access and use.

Based on the information accumulated, the Trust is proposing to establish a visitor and interpretive center within the boundary of the Preserve. The purpose of the center will be to expand public access and use on the Preserve while continuing to provide unique, high quality recreation, education, and interpretive experiences that impact the hearts and minds of our visitors. It is needed to facilitate broad access to the Preserve while protecting and preserving the natural, cultural, scientific, scenic, and recreational values of the Preserve. The design for the visitor and interpretive center will include parking and connected ancillary facilities such as interpretive trails, overlooks, and motorized access onto the Preserve.

The Trust is also proposing to make programmatic decisions that will guide or prescribe future development of programs and facilities.

Alternatives will be developed with input from the public that vary in the scale and location of the visitor and interpretive center and the capacities and types of programs that would be considered in the future.

A variety of reference documents are available for viewing and downloading from the Trust's Web site http://www.vallescaldera.gov/about/trust/trust_ref.aspx.

Dated: August 18, 2009.
Gary D. Bratcher,
Executive Director.

[FR Doc. E9-20672 Filed 8-27-09; 8:45 am]

BILLING CODE 3410-H6-P